NUCLEAR REGULATORY COMMISSION

Advisory Committee on the Medical Uses of Isotopes: Call for Nominations

AGENCY: U.S. Nuclear Regulatory Commission.

ACTION: Call for nominations.

SUMMARY: The U.S. Nuclear Regulatory Commission (NRC) is advertising for nominations for the positions of Agreement State representative, nuclear medicine physicist, and Health Care Administrator on the Advisory Committee on the Medical Uses of Isotopes (ACMUI).

DATES: Nominations are due on or before August 21, 2017.

FOR FURTHER INFORMATION CONTACT: Ms. Sophie Holiday, U.S. Nuclear Regulatory Commission, Office of Nuclear Material Safety and Safeguards; (301) 415-7865; Sophie.Holiday@nrc.gov.

SUPPLEMENTARY INFORMATION: The ACMUI advises the NRC on policy and technical issues that arise in the regulation of the medical use of byproduct material. Responsibilities include providing comments on changes to the NRC regulations and guidance; evaluating certain non-routine uses of byproduct material; providing technical assistance in licensing, inspection, and enforcement cases; and bringing key issues to the attention of the NRC staff, for appropriate action.

ACMUI members are selected based on their educational background, certification(s), work experience, involvement and/or leadership in professional society activities, and other information obtained in letters or during the selection process.

ACMUI members possess the medical and technical skills needed to address evolving issues. The current membership is comprised of the following professionals: (a) Nuclear medicine physician; (b) nuclear cardiologist; (c) two radiation oncologists; (d) diagnostic radiologist; (e) therapy medical physicist; (f) nuclear medicine physicist; (g) nuclear pharmacist; (h) Health Care Administrator; (i) radiation safety officer; (j) patients' rights advocate; (k) Food and Drug Administration representative; and (l) Agreement State representative.

The NRC is inviting nominations for the positions of Agreement State representative, nuclear medicine physicist, and the Health Care Administrator to the ACMUI. The Agreement State representative position is currently vacant. The terms of the individuals currently occupying the nuclear medicine physicist position and the Health Care Administrator position will end March 08, 2018, and March 23, 2018, respectively. Committee members currently serve a 4-year term and may be considered for reappointment to an additional term.

Nominees must be U.S. citizens and be able to devote approximately 160 hours per year to Committee business. Members who are not Federal employees are compensated for their service. In addition, members are reimbursed for travel (including per-diem in lieu of subsistence) and are reimbursed secretarial and correspondence expenses. Full-time Federal employees are reimbursed for travel expenses only.

Nomination Process: Submit an electronic copy of resume or curriculum vitae to Ms. Sophie Holiday, Sophie.Holiday@nrc.gov. Please ensure that the resume or curriculum vitae includes the following information, if applicable: Education; certification; current state regulatory experience; professional association membership and committee membership activities; duties and responsibilities in current and previous clinical, research, and/or academic position(s); and leadership activities. Nominees for the Agreement State representative position must currently be an employee of an Agreement State Radiation Control Program. Nominees for the nuclear medicine physicist position should have professional experience with the application of medical physics in nuclear medicine. Nominees for the Health Care Administrator position should have professional or personal experience with or knowledge about Health Care Administration.

Security Background Check: The selected nominee will undergo a thorough security background check. Security paperwork may take the nominee several weeks to complete. Nominees will also be required to complete a financial disclosure statement to avoid conflicts of interest.

Dated at Rockville, Maryland this 19th day of June, 2017.
For the U.S. Nuclear Regulatory Commission.
Andrew L. Bates,
Advisory Committee Management Officer.

[FR Doc. 2017-13038 Filed 6-21-17; 8:45 am]

BILLING CODE 7590-01-P